ENVIRONMENTAL PROTECTION AGENCY

[EPA-R03-CBP-2009-0500; FRL-8972-5]

Agency Information Collection Activities; Proposed Collection; Comment Request; Chesapeake Registry; EPA ICR No. 2365.01, OMB Control No. 200908-2003-001

AGENCY: Environmental Protection Agency (EPA).

ACTION: Notice.

SUMMARY: In compliance with the Paperwork Reduction Act (PRA), this document announces that EPA is planning to submit a request to renew an existing, approved Information Collection Request (ICR) to the Office of Management and Budget (OMB). EPA prepared the ICR, “Chesapeake Registry,” on behalf of the Chesapeake Bay Program (CBP) partnership. Before submitting the ICR renewal request to OMB for review and approval, EPA is soliciting comments on specific aspects of the proposed information collection as described below.

DATES: Comments must be submitted on or before December 22, 2009.

ADDRESSES: Submit your comments, identified by Docket ID No. EPA-R03-CBP-2009-0500, by one of the following methods:

• http://www.regulations.gov: Follow the on-line instructions for submitting comments.

• Mail: Chesapeake Registry, Attn: Marguerite Duffy, Chesapeake Bay Program Office, 410 Severn Avenue, Suite 109, Annapolis, Maryland 21403.

• Hand Delivery: Chesapeake Registry, Attn: Marguerite Duffy, EPA Chesapeake Bay Program Office, 410 Severn Avenue, Suite 109, Annapolis, Maryland 21403. Such deliveries are only accepted during the Docket's normal hours of operation (8:30 a.m. to 4:30 p.m. Monday through Friday, excluding legal holidays), and special arrangements should be made for deliveries of boxed information.

Instructions: Direct your comments to Docket ID No. EPA-R03-CBP-2009-0500. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov. The http://www.regulations.gov Web site is an “anonymous access” system, which means EPA will not know your identity or contact information unless you provide it in the body of your comment. If you submit a disk or CD-ROM, EPA recommends that you include your name and other contact information in the body of your comment. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Marguerite Duffy, USEPA Region III—Chesapeake Bay Program Office, Annapolis City Marina, 410 Severn Avenue, Suite 109 (3CB10), Annapolis, MD 21403; telephone number: (410) 267-5764; fax number: (410) 267-5777; e-mail address: duffy.marguerite@epa.gov.

SUPPLEMENTARY INFORMATION:

How Can I Access the Docket and/or Submit Comments?

EPA has established a public docket for this ICR under Docket ID No. EPA-R03-CBP-2009-0500, which is available for online viewing at http://www.regulations.gov, or in person viewing at the EPA Chesapeake Bay Program Office, 410 Severn Avenue, Suite 109, Annapolis, Maryland 21403. Materials are available for viewing from 8:30 a.m. to 4:30 p.m., Monday through Friday, excluding legal holidays; telephone number 410-267-5700. An electronic version of the public docket is available at: http://www.regulations.gov. This site can be used to obtain a copy of the draft information collection request, submit or view public comments, access the index listing of the contents of the docket, and to access those documents in the public docket that are available electronically. Once in the system, select “search,” then key in the docket ID number identified in this document (EPA-R03-CBP-2009-0500).

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are state and local governments and non-government organizations within the Chesapeake Bay watershed.

Title: Chesapeake Registry (formerly called Activity Integration Plan).

ICR numbers: EPA ICR No. 2365.01, OMB Control No. 200908-2003-001.

ICR status: This ICR is currently scheduled to expire on 02/28/2010. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: In 2008, EPA's Region III Chesapeake Bay Program Office and its partners developed the Chesapeake Action Plan (CAP) to strengthen and expand partnerships in the watershed, enhance coordination of restoration activities, and increase the collective accountability for protecting the Chesapeake Bay. One component described in the CAP is a Web-enabled reporting system known as the Activity Integration Plan now titled Chesapeake Registry. Through this reporting system, participating organizations provide data about the activities in which they are currently engaged, or plan to be engaged in, to protect and restore the Chesapeake Bay and its watershed. The ability to capture and account for Bay-wide implementation activities was developed in response to recommendations by the Government Accountability Office and directives of the Explanatory Statement of the FY 2008 Consolidated Appropriations Act (Public Law 110-161). CBPO conducted its first activity data call in 2008 that included 10 federal agencies, 7 states, and 2 local organizations.

The EPA, on behalf of the partnership, intends to expand the data call to more than 10 non-federal agencies and organizations to strengthen the information base on which to support implementation decisions and more recently, to support Executive Order (EO) 13508, signed by President Barack Obama on May 12, 2009. Section 203(d) of the EO directs EPA to identify the “mechanisms that will assure that governmental and other activities, including data collection and distribution, are coordinated and effective, relying on existing mechanisms where appropriate.” Section 204 further directs that “Federal actions to protect and restore the Chesapeake Bay are closely coordinated with actions by State and local agencies in the watershed and that the resources, authorities, and expertise of Federal, State, and local agencies are used as efficiently as possible.” The Chesapeake Registry and associated data calls provide a mechanism for coordinated data collections among federal and non-federal entities protecting and restoring the Bay and its watershed, and the information necessary to adaptively manage the program in support of these mandates.

The Chesapeake Registry includes detailed information about the activities and funding conducted and planned by partner organizations. The organizations provide project information on the nature of the activity, responsible organization, organizational point of contact, resource levels, geographic location, and major milestones on progress towards Chesapeake Bay protection and restoration efforts. Funds reported in the Chesapeake Registry are linked to an organization's own resource base so that data associated with a set of funds is entered only by the originator of the funding. The information is organized by programmatic goal and desired result, which aligns activities to the goals of the program and helps to provide an accurate depiction of restoration activities, progress, and results. The information collection, as envisioned, will be conducted annually. Summary level information from the Chesapeake Registry is available at http://cap.chesapeakebay.net.

Each reporting organization is assigned a user ID and password. Security measures have been established to protect data that have been entered, including maintaining the data on a secure server on a secure network, and confirming the data with each reporting organization. Participants in the information collection are able to search the reporting system database application and view standard reports. Partners will use the enhanced and expanded data to update performance management dashboards that summarize and synthesize information so the program partners can understand, at a glance, the progress being made in key program areas. The dashboards include measures of progress, information about resources and strategic analyses of what needs to be done to improve implementation. In addition, EPA anticipates that some of the partners will use the reporting system as a tool for their own management and planning efforts.

Burden Statement: The annual public reporting and recordkeeping burden for this collection of information is estimated to average 64.8 hours per response for state and local government agencies and 11.5 hours per response for non-government organizations. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information. The ICR provides a detailed explanation of the Agency's estimate, which is only briefly summarized here:

Estimated total number of potential respondents: 50 (30 state and local governments, 20 non-government organizations) initially but will likely increase over time.

Frequency of response: Annual.

Estimated total average number of responses for each respondent: 1.

Estimated total annual burden hours: 2,174.0 (64.8 hours per response for state and local governments, 11.5 hours per response for non-government organizations).

Estimated total annual costs: $104,974.20. This includes an estimated burden cost of $104,974.20 and an estimated cost of $0.00 for capital investment or maintenance and operational costs.

Are There Changes in the Estimates From the Last Approval?

EPA anticipates an annual, gradual change in the total estimated respondent burden compared with that identified in the ICR currently approved by OMB.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: October 13, 2009.
James Edward,
Deputy Director, Chesapeake Bay Program Office, Region III.

[FR Doc. E9-25588 Filed 10-22-09; 8:45 am]

BILLING CODE 6560-50-P